DEPARTMENT OF THE INTERIOR

National Park Service

[NPS-WASO-NAGPRA-23120; PPWOCRADN0-PCU00RP14.R50000]

Notice of Inventory Completion: Field Museum of Natural History, Chicago, IL; Correction

AGENCY: National Park Service, Interior.

ACTION: Notice; correction.

SUMMARY: The Field Museum of Natural History has corrected an inventory of human remains and associated funerary objects, published in a Notice of Inventory Completion in the Federal Register on August 3, 2010. This notice corrects the minimum number of individuals and the number of associated funerary objects. Lineal descendants or representatives of any Indian tribe or Native Hawaiian organization not identified in this notice that wish to request transfer of control of these human remains and associated funerary objects should submit a written request to the Field Museum of Natural History. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Field Museum of Natural History at the address in this notice by June 2, 2017.

ADDRESSES: Helen Robbins, Repatriation Director, Field Museum of Natural History, 1400 South Lake Shore Drive, Chicago, IL 60605-2496, telephone (312) 665-7317, email hrobbins@fieldmuseum.org.

SUPPLEMENTARY INFORMATION: Notice is here given in accordance with the Native American Graves Protection and Repatriation Act (NAGPRA), 25 U.S.C. 3003, of the correction of an inventory of human remains and associated funerary objects under the control of the Field Museum of Natural History. The human remains and associated funerary objects were removed from various locations on the Hopi Indian Reservation, Coconino and Navajo Counties, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and the number of associated funerary objects published in a Notice of Inventory Completion in the Federal Register (75 FR 45659-45660, August 3, 2010). Transfer of control of the items in this correction notice has not occurred.

Correction

In the Federal Register (75 FR 45659, August 3, 2010), column 3, paragraph 4, is corrected by substituting the following paragraph:

In 1900, human remains representing a minimum of 83 individuals were removed from Awatobi, Burned Corn House, Chukubi, Mishongnovi, Old Mishongnovi, Payupki, Kishuba, Shongopovi, Sikyatki, and First Mesa on the Hopi Indian Reservation, Coconino and Navajo County, AZ, by Charles L. Owen for the Field Museum of Natural History (Field Museum accession number 709). No known individuals were identified. The 65 associated funerary objects are 4 ceramic jars, 31 bowls, 5 pots, 11 ladles, 1 vase, 3 mugs, 2 beads, 1 figure, 1 lithic flake, 1 lot of paint, 1 piki stone, 1 colander, 1 shell ornament, and 2 vessels.

In the Federal Register (75 FR 45659, August 3, 2010), column 3, paragraph 5, is corrected by substituting the following paragraph:

In 1901, human remains representing a minimum of 204 individuals were removed from Old Walpi on the Hopi Indian Reservation, Coconino and Navajo County, AZ, by Charles L. Owen for the Field Museum of Natural History (Field Museum accession numbers 769, 780). No known individuals were identified. The 113 associated funerary objects are 25 ceramic jars, 22 bowls, 10 bahos, 7 ladles, 2 mugs, 2 stone images, 5 stone slabs, 1 bean, 2 vessels, 25 pots, 1 cup, 1 medicine bowl, 1 pitcher, 1 water vessel, 4 non-human remains, 2 pipes, 1 ear pendant, and 1 possible seed.

In the Federal Register (75 FR 54659, August 3, 2010) column 3, before paragraph 6, insert the following paragraph:

In 1900 or 1901, fragmentary human remains representing a minimum of 19 individuals were removed from unknown sites on the Hopi Indian Reservation, Coconino and Navajo County, AZ, by Charles L. Owen for the Field Museum of Natural History (Field Museum accession numbers 769, 780, and 709).

In the Federal Register (75 FR 45660, August 3, 2010) column 1, paragraph 1, sentence 1, is corrected by replacing the number “251” with the number “306”.

In the Federal Register (75 FR 45660, August 3, 2010) column 1, paragraph 1, sentence 2, is corrected by replacing the number “151” with the number “178”.

Additional Requestors and Disposition

Lineal descendants or representatives of any Indian tribe or Native Hawaiian organization not identified in this notice that wish to request transfer of control of these human remains and associated funerary objects should submit a written request with information in support of the request to Helen Robbins, Repatriation Director, Field Museum of Natural History, 1400 South Lake Shore Drive, Chicago, IL 60605-2496, telephone (312) 665-7317, email hrobbins@fieldmuseum.org, by June 2, 2017. After that date, if no additional requestors have come forward, transfer of control of the human remains and associated funerary objects to the Hopi Tribe of Arizona may proceed.

The Field Museum of Natural History is responsible for notifying the Hopi Tribe of Arizona that this notice has been published.

Dated: March 21, 2017.
Melanie O'Brien,
Manager, National NAGPRA Program.

[FR Doc. 2017-08873 Filed 5-2-17; 8:45 am]

BILLING CODE 4312-52-P